DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Subcommittee on Standards and Security (SSS).

Time and Date: February 18, 2005, 11 a.m.-1 p.m.

Place: Conference Call, Leader: Ms. Maria Friedman, USA Toll Free Number: 1-877-601-3547, Pass Code: NCVHS.

For security reasons, the pass code and the leader's name will be required to join your call.

Status: Open.

Purpose: The Subcommittee will review and finalize two separate letters. The first will cover recommendations to the HHS Secretary on e-signature requirements and other topics related to electronic prescribing for use in the Medicare drug benefit. The second letter will provide comments on HHS' notice of proposed rule making (NPRM) on e-prescribing foundation standards to be used by plans participating in the Medicare drug benefit.

Contact Person For More Information: Substantive program information as well as summaries of meetings and a roster of Committee members may be obtained from Maria Friedman, Health Insurance Specialist, Security and Standards Group, Centers for Medicare and Medicaid Services, MS: C5-24-04, 7500 Security Boulevard, Baltimore, MD 21244-1850, telephone: 410-786-6333 or Marjorie S. Greenberg, Executive Secretary, NCVHS, National Center for Health Statistics, Centers for Disease Control and Prevention, Room 1100, Presidential Building, 3311 Toledo Road, Hyattsville, Maryland 20782, telephone: (301) 458-4245. Information also is available on the NCVHS home page of the HHS Web site: http://www.ncvhs.hhs.gov/ where an agenda for the meeting will be posted when available.

Should you require reasonable accommodation, please contact the CDC Office of Equal Employment Opportunity on (301) 458-4EEO (4336) as soon as possible.

Dated: February 8, 2005.
James Scanlon,
Acting Deputy Assistant Secretary for Science and Data Policy, Office of the Assistant Secretary for Planning and Evaluation.

[FR Doc. 05-3265 Filed 2-18-05; 8:45 am]

BILLING CODE 4151-05